DEPARTMENT OF TRANSPORTATION

Federal Transit Administration

Supplemental Environmental Impact Statement for the Maryland Transit Administration Baltimore Red Line Project

AGENCY: Federal Transit Administration (FTA), Department of Transportation (DOT).

ACTION: Notice.

SUMMARY: The FTA, as lead Federal agency, and the Maryland Transit Administration (MTA), as local project sponsor and joint lead agency, issue this notice to advise other Federal, State, and local agencies, Tribes, and the public that a Supplemental Environmental Impact Statement (SEIS) will be prepared in accordance with the National Environmental Policy Act (NEPA) for the Red Line Project (“the Project”). The Project, a proposed high-frequency, high-capacity, approximately 14-mile transit line for the Baltimore Region, will fill a major gap in east-west transit service between Woodlawn and Bayview, through downtown Baltimore, Maryland.

FOR FURTHER INFORMATION CONTACT:

For FTA: Heidi Krofft, Environmental Protection Specialist, FTA Region 3, 1835 Market Street, Suite 910, Philadelphia, PA 19103, 215-656-7053.

For MTA: Allison Scott, Red Line Senior Project Director, 6 St. Paul Street, Baltimore, MD 21202, 410-767-3769.

All previous environmental documents as well as current project documents and additional information are available on the Project's website: https://redlinemaryland.com/.

SUPPLEMENTARY INFORMATION: The Project was first identified as a priority for transit investment in Baltimore City and Baltimore County in the 2001 Maryland Comprehensive Transit Plan and the 2002 Baltimore Regional Rail Systems Plan. Subsequently, FTA issued the Notice of Intent to Prepare a Draft EIS for the Project on April 11, 2003 (68 FR 17855) and issued the Record of Decision (ROD) in February 2013. In 2015, MTA cancelled the project to focus on other statewide priorities and the ROD was rescinded in 2015.

Following the recission of the ROD, local and regional planning studies continued to study an east-west transit line. The 2020 Regional Transit Plan ranked the project corridor high for near-term transit investment. The Project was subject to more detailed exploration in the 2022 East-West Corridor Feasibility Study, which confirmed the public's continued support for east-west transit. The State officially restarted the Project in June 2023.

The Project's SEIS will build upon the previous technical reports and NEPA analyses, as well as recent local and regional planning studies. The original purpose and need articulated in the previous EIS remains consistent. The purpose of the proposed Project is to provide high-frequency, high-capacity transit service in the corridor in a manner that improves transit efficiency; increases access to transit near work and activity centers; enhances connections among existing transit routes; provides transportation choices for east-west commuters; and supports economic development and community revitalization. The Red Line alignment was subject to more detailed exploration in the 2022 East-West Corridor Feasibility Study, which confirmed the public's continued support for east-west transit based on the same needs identified in the 2008-2013 FTA NEPA review (https://redlinemaryland.com/resources/).

The SEIS will reassess tunneling options, as well as changes to the eastern end of the proposed Project alignment. The SEIS will focus on any changes in the affected environment and project impacts, operational changes, regulations, and mitigation measures; and will include coordination activities and input from Federal, State, and local agencies; consultation with tribes; and public involvement. The Project may result in new or changed significant impacts that were not evaluated in the FEIS. Therefore, pursuant to 23 CFR 771.130(a), FTA has determined that a SEIS is necessary to identify and disclose any new significant impacts. The SEIS will follow the same process and format as the Project's EIS, except that in accordance with 23 CFR 771.130(d), additional scoping is not required. Per 40 CFR 1506.13, the SEIS will follow Council on Environmental Quality (CEQ) regulations that were in effect when the original Notice of Intent was published for the Project on April 11, 2003.

Consistent with NEPA's requirements, FTA and MTA are committed to meaningful and equitable stakeholder and public engagement during preparation of the SEIS. Insights and commitments from the work previously completed provides a strong foundation to build upon. Ongoing stakeholder and public engagement activities such as online surveys, pop-up events, on-street engagement, community meetings, in-person public workshops, and stakeholder conversations will be used to inform and exchange information related to the project's key considerations and decisions. Interagency Review Meetings will be held to present the study approach and results of major study findings to Cooperating and Participating Agencies.

Once completed, the SEIS will be available for public, agency, and tribal review and comment prior to the public hearing(s). After public review, FTA and MTA anticipate issuing a combined Final SEIS/ROD pursuant to 49 U.S.C. 304a(b) and 23 U.S.C.139(n)(2) and 23 CFR 771.124 unless FTA determines that statutory criteria or practicability considerations preclude issuance of such a combined document.

Authority: 23 U.S.C. 139(n)(2), 23 CFR part 771, 40 CFR 1506.6, and 49 CFR 1.81(a)(5) and 1.91(c).

Theresa Garcia Crews,
Regional Administrator, FTA Region 3.

[FR Doc. 2024-11003 Filed 5-17-24; 8:45 am]

BILLING CODE 4910-57-P